DEPARTMENT OF HEALTH AND HUMAN SERVICES

Solicitation of Nominations for Appointment to the Tick-Borne Disease Working Group

AGENCY: Office of Infectious Disease and HIV/AIDS Policy (OIDP), Office of the Assistant Secretary for Health (OASH), Office of the Secretary, Department of Health and Human Services.

ACTION: Notice.

SUMMARY: This notice will serve to announce that the U.S. Department of Health and Human Services (HHS) is seeking nominations of non-federal public (public) individuals who represent diverse scientific disciplines and views and are interested in being considered for appointment to the Tick-Borne Disease Working Group (TBDWG). Resumes or curricula vitae from qualified individuals who wish to be considered for appointment as a member of the TBDWG are currently being accepted.

DATES: Nominations must be received no later than 5:00 p.m. ET, November 5, 2020.

ADDRESSES: All nominations should be sent to the TBDWG email address at tickbornedisease@hhs.gov. Please indicate “TBDWG Nomination” in the subject line of your email. The COVID-19 pandemic has caused significant disruption of mail addressed to the TBDWG. As such, it is advised that all nominations be submitted electronically.

FOR FURTHER INFORMATION CONTACT: James Berger, MS, MT (ASCP), SBB, Senior Advisor for Blood and Tissue Policy; Telephone: (202) 795-7608; Email address: tickbornedisease@hhs.gov. Website information about activities of the TBDWG, as well as the Charter, can be found at https://www.hhs.gov/ash/advisory-committees/tickbornedisease/index.html.

SUPPLEMENTARY INFORMATION: Section 2062 of the 21st Century Cures Act, Public Law 114-255, requires establishment of the TBDWG. The TBDWG is governed by provisions of the Federal Advisory Committee Act, Public Law 92-463, as amended (5 U.S.C. App.), which sets forth standards for the formation and use of federal advisory committees. The 21st Century Cures Act is intended to advance the research and development of new therapies and diagnostics and make substantial federal investments in a wide range of health priorities. The TBDWG is a non-discretionary federal advisory committee.

Objectives and Scope of Activities. The Secretary of HHS is responsible for ensuring the conduct of and support for epidemiological, basic, translational, and clinical research related to vector-borne diseases, including tick-borne diseases. The TBDWG was established to help ensure interagency coordination and to examine the prioritization of such activities and research. The TBDWG membership provides subject matter expertise and reviews efforts within the federal government related to all tick-borne diseases. The TBDWG is charged to provide a report to the HHS Secretary and Congress biennially on its findings, including advances made and gaps in research, and to make recommendations regarding appropriate changes or improvements to such activities and research.

Membership and Designation. The TBDWG consists of 14 voting members who represent diverse scientific disciplines and views. The composition includes seven public members and seven federal members. Every effort is made to ensure that the TBDWG is a diverse group of individuals with representation from various geographic locations, racial and ethnic minorities, genders, and persons living with disabilities.

The public members consist of representatives of the following categories: (1) Physicians and other medical providers with experience in diagnosing and treating tick-borne diseases; (2) scientists or researchers with expertise; (3) patients and their family members; and (4) nonprofit organizations that advocate for patients with respect to tick-borne disease. The public members are classified as special government employees. The public members may be invited to serve consecutive terms of up to four years total. Terms of more than two years are also contingent upon renewal of the charter of the TBDWG. Any public member who is appointed to fill the vacancy of an unexpired term will be appointed to serve for the remainder of that term. A public member may serve after the expiration of their term until their successor has taken office, but no longer than 180 days.

The federal members consist of one or more representatives of each of the following HHS agencies: OASH, the Food and Drug Administration, the Centers for Disease Control and Prevention, and the National Institutes of Health. Invitations of membership are extended to other federal agencies and offices as the HHS Secretary determines appropriate and beneficial for accomplishing the mission of the TBDWG. Individuals who are appointed to represent federal entities are classified as regular government employees. The federal members are appointed to serve for the duration of time that the TBDWG is authorized to operate. Participation of the appointed federal members is at the discretion of their respective agency head.

Pursuant to advance written agreement, public members of the TBDWG will receive no stipend for the advisory service that they render as members of the TBDWG. However, public members will receive per diem and reimbursement for travel expenses incurred in relation to performing duties for the TBDWG, as authorized by law under 5 U.S.C. 5703 for persons who are employed intermittently to perform services for the federal government and in accordance with federal travel regulations.

Estimated Number and Frequency of Meetings. The TBDWG will meet not less than twice a year. The meetings will be open to the public, except as determined otherwise by the Secretary, or another official to whom authority has been delegated, in accordance with the guidelines under Government in the Sunshine Act, 5 U.S.C. 552b(c).

Nominations: Nominations of individuals who have demonstrated subject matter expertise will be considered for appointment as public voting members of the TBDWG. Self-nominations are acceptable. All nominations should include the following: (1) A letter of nomination that clearly states the name and affiliation of the nominee, the basis for the nomination, and a statement from the nominee that indicates that the individual is willing to serve as a member of the TBDWG, if selected; (2) the name, address, telephone number, and email address of the nominee; and (3) a current copy of the nominee's curriculum vitae or resume, which must be limited to 10 pages. Only the first 10 pages of resume or CV document will be considered.

All public nominees will be subject to federal ethics requirements for special government employees. As required by the Ethics Reform Act, Public Law 101-194, special government employees must receive annual ethics training and submit a financial disclosure. An ethics review must be conducted to ensure that individuals appointed as public voting members of the TBDWG are not involved in any activity that may pose a potential conflict of interest for the official duties that are to be performed. All federal members of the TBDWG will be governed by the Standards of Ethical Conduct for Employees of the Executive Branch.

Dated: September 21, 2020.
James J. Berger,
Senior Advisor for Blood and Tissue Policy, Designated Federal Officer, Tick-Borne Disease Working Group.

[FR Doc. 2020-22062 Filed 10-5-20; 8:45 am]

BILLING CODE 4150-28-P